SURFACE TRANSPORTATION BOARD

[Docket No. FD 36259]

Kean Burenga and Chesapeake and Delaware, LLC—Continuance in Control Exemption—Dover and Delaware River Railroad, LLC

AGENCY: Surface Transportation Board.

ACTION: Notice of exemption.

SUMMARY: The Board is granting an exemption for Kean Burenga (Burenga) and Chesapeake and Delaware, LLC (CAD), both noncarriers, to continue in control of Dover and Delaware River Railroad, LLC (DDRR), when DDRR becomes a Class III rail carrier in a related transaction involving DDRR's lease and operation of 27.2 miles of rail lines owned by Norfolk Southern Railway Company (NSR) and operation of 80.7 miles of rail lines pursuant to a trackage rights agreement among DDRR, New Jersey Transit Corporation, and NSR.¹ All of the affected lines are located in the State of New Jersey. The lines over which DDRR will operate connect with lines operated by Dover and Rockaway River Railroad, LCC (Rockaway), another Class III carrier that CAD controls.² Because all of the carriers involved are Class III carriers, this continuance-in-control exemption is not subject to labor protective conditions.

¹ See Dover & Del. River R.R.—Lease with Interchange Commitment & Trackage Rights Exemption—Norfolk S. R.R., FD 36258 (STB served Dec. 20, 2018).

² Burenga previously sought authority to continue in control of Rockaway once Rockaway became a Class III rail carrier. (See Pet. 2 (citing Burenga—Continuance in Control Exemption—Dover & Rockaway River R.R., FD 36125, slip op. at 1 (STB served June 16, 2017)).) The Board found it unnecessary to resolve the issue of Burenga's control in that proceeding.

DATES: This exemption will be effective on February 25, 2019. Petitions to stay must be filed by February 20, 2019. Petitions to reopen must be filed by March 7, 2019.

ADDRESSES: Send an original and 10 copies of all pleadings, referring to Docket No. FD 36259, to: Surface Transportation Board, 395 E Street SW, Washington, DC 20423-0001. In addition, one copy of each pleading must be served on Eric M. Hocky, Clark Hill PLC, One Commerce Square, 2005 Market Street, Suite 1000, Philadelphia, PA 19103.

FOR FURTHER INFORMATION CONTACT: Sarah Fancher, (202) 245-0355. Federal Information Relay Service (FIRS) for the hearing impaired: (800) 877-8339.

SUPPLEMENTARY INFORMATION: Additional information is contained in the Board's decision served on February 15, 2019, which is available at www.stb.gov.

Decided: February 14, 2019.
By the Board, Board Members Begeman, Fuchs, and Oberman.
Tammy Lowery,
Clearance Clerk.

[FR Doc. 2019-03012 Filed 2-21-19; 8:45 am]

BILLING CODE 4915-01-P